DEPARTMENT OF THE TREASURY

Internal Revenue Service

Alteration of Privacy Act Systems of Records Notice

AGENCY: Internal Revenue Service, Treasury.

ACTION: The Department of the Treasury, Internal Revenue Service, gives notice of proposed alterations to 11 systems of records.

SUMMARY: In accordance with the requirements of the Privacy Act of 1974, 5 U.S.C. 552a, as amended, the Department of the Treasury, Internal Revenue Service, proposes to add a routine use to 11 of its systems of records, add another routine use to three of the same systems of records, and to make minor alterations to all 11 systems.

DATES: Comments must be received no later than October 3, 2003. The alteration to the systems of records will be effective October 14, 2003 unless the IRS receives comments, which would result in a contrary determination.

ADDRESSES: Comments should be sent to the Office of Governmental Liaison & Disclosure, Internal Revenue Service, 1111 Constitution Avenue, NW., Washington, DC 20224. Comments will be made available for public inspection and copying in the Internal Revenue Service Freedom of Information Reading Room, 1111 Constitution Avenue, NW., Room 1621, Washington, DC, telephone number 202-622-5164 (not a toll-free call).

FOR FURTHER INFORMATION CONTACT: Earl Prater, Office of Professional Responsibility, 1111 Constitution Avenue, NW., Washington, DC 20224, 202-694-1853 (not a toll-free call).

SUPPLEMENTARY INFORMATION: The 11 systems of records listed below are subject to the Privacy Act of 1974, 5 U.S.C. 552a, as amended:

Treasury/IRS 37.001—Abandoned Enrollment Applications

Treasury/IRS 37.002—Files Containing Derogatory Information about Individuals Whose Applications for Enrollment to Practice Before the IRS Have Been Denied and Applicant Appeal Files

Treasury/IRS 37.003—Closed Files Containing Derogatory Information about Individuals' Practice before the Internal Revenue Service and Files of Attorneys and Certified Public Accountants Formerly Enrolled to Practice

Treasury/IRS 37.004—Derogatory Information (No Action)

Treasury/IRS 37.005—Present Suspensions and Disbarments Resulting from Administrative Proceeding

Treasury/IRS 37.06—General Correspondence File

Treasury/IRS 37.007—Inventory

Treasury/IRS 37.008—Register of Docketed Cases and Applicant Appeals

Treasury/IRS 37.009—Enrolled Agents and Resigned Enrolled Agents (Action pursuant to 31 CFR 10.55(b))

Treasury/IRS 37.010—Roster of Former Enrollees

Treasury/IRS 37.011—Present Suspensions from Practice before the Internal Revenue Service.

In accordance with the Act's requirements, the Department of the Treasury, Internal Revenue Service, proposes:

• To add a routine use to disclose to contractors to each of these 11 systems;

• To add a second routine use to Treasury/IRS 37.005, 37.009, and 37.011,which conforms with 31 CFR part 10, section 10.90, to disclose information regarding persons enrolled to practice, the roster of all persons censured, suspended, or disbarred from practice before the Internal Revenue Service, and the roster of disqualified appraisers; and

• To make minor alterations to all 11 systems.

The systems were established to give notice of records collected by the Office of Professional Responsibility (“OPR”), formerly Office of Director of Practice, to accomplish its mission under the regulations governing practice before the IRS, 31 CFR part 10 (published in pamphlet form as Treasury Department Circular No. 230): Enrolling individuals to practice and instituting disciplinary proceedings against IRS practitioners who violate those regulations. The systems were last published in their entirety in the Federal Register: December 10, 2001 (Volume 66, Number 237), pages 63826 through 63835.

Major alterations: The IRS has determined that certain work associated with the enrollment function should be contracted out. This work includes: Writing and administering the Special Enrollment Examination (“SEE”); processing applications to take the SEE; grading the SEE; informing examinees of SEE results; processing applications for enrollment and for renewal of enrollment; and operating and maintaining the computerized enrolled agent database. Functions that are inherently governmental will not be contracted out. IRS proposes to add a routine use to allow disclosure to contractors to the extent necessary for the contractors to perform their contractual duties.

A second new routine use is being added to Treasury/IRS 37.005, 37.009, and 37.011 to disclose information regarding persons enrolled to practice, the roster of all persons censured, suspended, or disbarred from practice before the Internal Revenue Service, and the roster of disqualified appraisers. Under 31 CFR part 10, section 10.90, the OPR will make available for public inspection the roster of all persons enrolled to practice, the roster of all persons censured, suspended, or disbarred from practice before the Internal Revenue Service, and the roster of all disqualified appraisers. The new routine use for Treasury/IRS 37.005, 37.009, and 37.011 is consistent with 31 CFR part 10.

Minor alterations: On January 8, 2003, the IRS announced the creation of the OPR as part of its ongoing modernization effort. The new office replaced the Office of Director of Practice. The IRS proposes to update organizational names and addresses and to provide a current reference to safeguard standards.

The altered systems of records report, as required by 5 U.S.C. 552a(r) of the Privacy Act, has been submitted to the Committee on Government Reform and Oversight of the House of Representatives, the Committee on Governmental Affairs of the Senate and the Office of Management and Budget, pursuant to Appendix I to OMB Circular A-130, “Federal Agency Responsibilities for Maintaining Records About Individuals,” dated November 30, 2000.

For the reasons set forth above, the proposed changes are as follows:

Treasury/IRS 37.001

System name:

Abandoned Enrollment Applications.

System location:

Description of change: “Office of Director of Practice, C:AP:P, 901 D Street, SW” is removed and is replaced with “Office of Professional Responsibility, 1099 14th Street, NW”.

* * * * *

Routine uses of records maintained in the system, including categories of users and the purpose of such uses:

* * * * *

Description of change: The period at the end of routine use 6 is replaced with a semicolon, “;” and the following routine use is added at the end thereof:

“(7) Disclose information to a contractor when necessary to perform a government contract.”

* * * * *

Safeguards:

Description of change: After the sentence, add “Security controls will be no less than those provided in IRM 25.10.1, Information Technology Security Policy and Guidance.”

* * * * *

System manager(s) and address:

Description of change: “Office of Director of Practice, C:AP:P” is removed and is replaced with “Office of Professional Responsibility”.

* * * * *

Records access procedures:

Description of change: “Office of the Director of Practice, C:AP:P,” is removed and is replaced with “Office of Professional Responsibility”.

* * * * *

Treasury/IRS 37.002

System name:

Files Containing Derogatory Information about Individuals Whose Applications for Enrollment to Practice Before the IRS Have Been Denied and Applicant Appeal Files.

System location:

Description of change: “Office of Director of Practice, 901 D Street, SW” is removed and is replaced with “Office of Professional Responsibility, 1099 14th Street, NW”.

* * * * *

Routine uses of records maintained in the system, including categories of users and the purpose of such uses:

Description of change: The period at the end of routine use 6 is replaced with a semicolon, “;” and the following routine use is added at the end thereof:

“(7) Disclose information to a contractor when necessary to perform a government contract.”

* * * * *

Safeguards:

Description of change: After the sentence, add “Security controls will be no less than those provided in IRM 25.10.1, Information Technology Security Policy and Guidance.”

* * * * *

System manager(s) and address:

Description of change: “Office of Director of Practice, C:AP:P” is removed and is replaced with “Office of Professional Responsibility”.

* * * * *

Records access procedures:

Description of change: “Office of Director of Practice, C:AP:P,” is removed and is replaced with “Office of Professional Responsibility”.

* * * * *

Treasury/IRS 37.003

System name:

Closed Files Containing Derogatory Information about Individuals' Practice before the Internal Revenue Service and Files of Attorneys and Certified Public Accountants Formerly Enrolled to Practice.

System location:

Description of change: “Office of Director of Practice, 901 D Street, SW” is removed and is replaced with “Office of Professional Responsibility, 1099 14th Street, NW”.

* * * * *

Routine uses of records maintained in the system, including categories of users and the purpose of such uses:

Description of change: The period at the end of routine use 6 is replaced with a semicolon, “;” and the following routine use is added at the end thereof:

“(7) Disclose information to a contractor when necessary to perform a government contract.”

* * * * *

Safeguards:

Description of change: After the sentence, add “Security controls will be no less than those provided in IRM 25.10.1, Information Technology Security Policy and Guidance.”

* * * * *

System manager(s) and address:

Description of change: “Office of Director of Practice, C:AP:P” is removed and is replaced with “Office of Professional Responsibility”.

* * * * *

Records access procedures:

Description of change: “Office of Director of Practice, C:AP:P,” is removed and is replaced with “Office of Professional Responsibility”.

* * * * *

Treasury/IRS 37.004

System name:

Derogatory Information (No Action).

System location:

Description of change: “Office of Director of Practice, 901 D Street, SW” is removed and is replaced with “Office of Professional Responsibility, 1099 14th Street, NW”.

* * * * *

Routine uses of records maintained in the system, including categories of users and the purpose of such uses:

Description of change: The period at the end of routine use 6 is replaced with a semicolon, “;” and the following routine use is added at the end thereof:

“(7) Disclose information to a contractor when necessary to perform a government contract.”

* * * * *

Safeguards:

Description of change: After the sentence, add “Security controls will be no less than those provided in IRM 25.10.1, Information Technology Security Policy and Guidance.”

* * * * *

System manager(s) and address:

Description of change: “Office of Director of Practice, C:AP:P” is removed and is replaced with “Office of Professional Responsibility”.

* * * * *

Records access procedures:

Description of change: “Office of Director of Practice, C:AP:P,” is removed and is replaced with “Office of Professional Responsibility”.

* * * * *

Treasury/IRS 37.005

System name:

Present Suspensions and Disbarments Resulting from Administrative Proceeding.

System location:

Description of change: “Office of Director of Practice, 901 D Street, SW” is removed and is replaced with “Office of Professional Responsibility, 1099 14th Street, NW”.

* * * * *

Routine uses of records maintained in the system, including categories of users and the purpose of such uses:

Description of changes: The period at the end of routine use 7 is replaced with a semicolon, “;” and the following routine uses are added at the end thereof:

“(8) Disclose information to a contractor when necessary to perform a government contract;

(9) Disclose information (including addresses) sufficient to identify all persons enrolled to practice, the roster of all persons censured, suspended, or disbarred from practice before the Internal Revenue Service, and the roster of all disqualified appraisers.”

* * * * *

Safeguards:

Description of change: After the sentence, add “Security controls will be no less than those provided in IRM 25.10.1, Information Technology Security Policy and Guidance.”

* * * * *

System manager(s) and address:

Description of change: “Office of Director of Practice, C:AP:P” is removed and is replaced with “Office of Professional Responsibility”.

* * * * *

Records access procedures:

Pescription of change: “Office of Director of Practice, C:AP:P,” is removed and is replaced with “Office of Professional Responsibility”.

* * * * *

Treasury/IRS 37.06

System name:

General Correspondence File.

System location:

Description of change: “Office of Director of Practice, 901 D Street, SW” is removed and is replaced with “Office of Professional Responsibility, 1099 14th Street, NW”.

* * * * *

Routine uses of records maintained in the system, including categories of users and the purpose of such uses:

Description of change: The period at the end of routine use 6 is replaced with a semicolon, “;” and the following routine use is added at the end thereof:

“(7) Disclose information to a contractor when necessary to perform a government contract.”

* * * * *

Safeguards:

Description of change: After the sentence, add “Security controls will be no less than those provided in IRM 25.10.1, Information Technology Security Policy and Guidance.”

* * * * *

System manager(s) and address:

Description of change: “Office of Director of Practice, C:AP:P” is removed and is replaced with “Office of Professional Responsibility”.

* * * * *

Records access procedures:

Description of change: “Office of Director of Practice, C:AP:P,” is removed and is replaced with “Office of Professional Responsibility”.

* * * * *

Treasury/IRS 37.007

System name:

Inventory.

System location:

Description of change: “Office of Director of Practice, 901 D Street, SW” is removed and is replaced with “Office of Professional Responsibility, 1099 14th Street, NW”.

* * * * *

Routine uses of records maintained in the system, including categories of users and the purpose of such uses:

Description of change: The period at the end of routine use 6 is replaced with a semicolon, “;” and the following routine use is added at the end thereof:

“(7) Disclose information to a contractor when necessary to perform a government contract.”

* * * * *

Safeguards:

Description of change: After the sentence, add “Security controls will be no less than those provided in IRM 25.10.1, Information Technology Security Policy and Guidance.”

* * * * *

System manager(s) and address:

Description of change: “Office of Director of Practice, C:AP:P” is removed and is replaced with “Office of Professional Responsibility”.

* * * * *

Records access procedures:

Description of change: “Office of Director of Practice, C:AP:P,” is removed and is replaced with “Office of Professional Responsibility”.

* * * * *

Treasury/IRS 37.008

System name:

Register of Docketed Cases and Applicant Appeals.

System location:

Description of change: “Office of Director of Practice, 901 D Street, SW” is removed and is replaced with “Office of Professional Responsibility, 1099 14th Street, NW”.

* * * * *

Routine uses of records maintained in the system, including categories of users and the purpose of such uses:

Description of change: The period at the end of routine use 6 is replaced with a semicolon, “;” and the following routine use is added at the end thereof:

“(7) Disclose information to a contractor when necessary to perform a government contract.”

* * * * *

Safeguards:

Description of change: After the sentence, add “Security controls will be no less than those provided in IRM 25.10.1, Information Technology Security Policy and Guidance.”

* * * * *

System manager(s) and address:

Description of change: “Office of Director of Practice, C:AP:P” is removed and is replaced with “Office of Professional Responsibility”.

* * * * *

Records access procedures:

Description of change: “Office of Director of Practice, C:AP:P,” is removed and is replaced with “Office of Professional Responsibility”.

* * * * *

Treasury/IRS 37.009

System name:

Enrolled Agents and Resigned Enrolled Agents (Action pursuant to 31 CFR 10.55(b)).

System location:

Description of change: Prior to “Detroit Computing Center,” insert “Internal Revenue Service, Office of Professional Responsibility, 1099 14th Street, NW, and the”.

* * * * *

Routine uses of records maintained in the system, including categories of users and the purpose of such uses:

Description of changes: The period at the end of routine use 6 is replaced with a semicolon, “;” and the following routine uses are added at the end thereof:

“(7) Disclose information to a contractor when necessary to perform a government contract;

(8) Disclose information (including addresses) sufficient to identify all persons enrolled to practice, the roster of all persons censured, suspended, or disbarred from practice before the Internal Revenue Service, and the roster of all disqualified appraisers.”

* * * * *

Safeguards:

Description of change: After the sentence, add “Security controls will be no less than those provided in IRM 25.10.1, Information Technology Security Policy and Guidance.”

* * * * *

System manager(s) and address:

Description of change: “Office of Director of Practice, C:AP:P” is removed and is replaced with “Office of Professional Responsibility”.

* * * * *

Records access procedures:

Description of change: “Office of Director of Practice, C:AP:P,” is removed and is replaced with “Office of Professional Responsibility”.

* * * * *

Treasury/IRS 37.010

System name:

Roster of Former Enrollees.

System location:

Description of change: “Office of Director of Practice, 901 D Street, SW” is removed and is replaced with “Office of Professional Responsibility, 1099 14th Street, NW”.

* * * * *

Routine uses of records maintained in the system, including categories of users and the purpose of such uses:

Description of change: The period at the end of routine use 6 is replaced with a semicolon, “;” and the following routine use is added at the end thereof:

“(7) Disclose information to a contractor when necessary to perform a government contract.”

* * * * *

Safeguards:

Description of change: After the sentence, add “Security controls will be no less than those provided in IRM 25.10.1, Information Technology Security Policy and Guidance.”

* * * * *

System manager(s) and address:

Description of change: “Office of Director of Practice, C:AP:P” is removed and is replaced with “Office of Professional Responsibility”.

* * * * *

Records access procedures:

Description of change: “Office of Director of Practice, C:AP:P,” is removed and is replaced with “Office of Professional Responsibility”.

* * * * *

Treasury/IRS 37.011

System name:

Present Suspensions from Practice before the Internal Revenue Service.

System location:

Description of change: “Office of Director of Practice, 901 D Street, SW” is removed and is replaced with “Office of Professional Responsibility, 1099 14th Street, NW”.

* * * * *

Routine uses of records maintained in the system, including categories of users and the purpose of such uses:

Description of changes: The period at the end of routine use 6 is replaced with a semicolon, “;” and the following routine uses are added at the end thereof:

“(7) Disclose information to a contractor when necessary to perform a government contract;

(8) Disclose information sufficient to identify (including addresses) of all persons enrolled to practice, the roster of all persons censured, suspended, or disbarred from practice before the Internal Revenue Service, and the roster of all disqualified appraisers.”

* * * * *

Safeguards:

Description of change: After the sentence, add “Security controls will be no less than those provided in IRM 25.10.1, Information Technology Security Policy and Guidance.”

* * * * *

System manager(s) and address:

Description of change: “Office of Director of Practice, C:AP:P” is removed and is replaced with “Office of Professional Responsibility”.

* * * * *

Records access procedures:

Description of change: “Office of Director of Practice, C:AP:P,” is removed and is replaced with “Office of Professional Responsibility”.

* * * * *

Dated: August 25, 2003.
W. Earl Wright, Jr.,
Acting Chief Management and Administrative Programs Officer.

[FR Doc. 03-22408 Filed 9-2-03; 8:45 am]

BILLING CODE 4830-01-P